DEPARTMENT OF AGRICULTURE

Forest Service

Lake County Resource Advisory Committee

AGENCY: Forest Service, USDA.

ACTION: Notice of meeting.

SUMMARY: The Lake County Resource Advisory Committee (RAC) will hold a meeting.

DATES: The meeting will be held on March 19, 2009, from 3 p.m. to 5 p.m.

ADDRESSES: The meeting will be held at the Lake County Board of Supervisor's Chambers at 255 North Forbes Street, Lakeport, Room C.

FOR FURTHER INFORMATION CONTACT: Debbie McIntosh, Committee Coordinator, USDA, Mendocino National Forest, Upper Lake Ranger District, 10025 Elk Mountain Road, Upper Lake, CA 95485. (707) 275-2361: e-mail thncintosh@fs.fed.us.

SUPPLEMENTARY INFORMATION: Agenda items to be covered include: (1) Roll Call/Establish Quorum; (2) Welcome and Introductions; (3) Review of Members New Legislation Information (4) Discuss Project Cost Accounting USFS/County of Lake; (7) Set Next Meeting Date; (8) Public Comment Period; Public input opportunity will be provided and individuals will have the opportunity to address the Committee at that time. (19) Adjourn.

Dated: February 9, 2009.
Lee D. Johnson,
Designated Federal Officer.

[FR Doc. E9-3326 Filed 2-17-09; 8:45 am]

BILLING CODE 3410-11-M